DEPARTMENT OF THE INTERIOR

National Park Service

Final Director's Order 12—Conservation Planning, Environmental Impact Analysis and Decision-Making and Final Handbook

AGENCY: National Park Service, Department of the Interior.

ACTION: Notice of availability of final director's order 12—conservation planning, environmental impact analysis and decision-making and final handbook.

SUMMARY: The National Park Service (NPS) is converting and updating its current system of internal instructions in conformance with a new system of NPS internal guidance documents. As part of this process the NPS invited public and agency comments (59 FR 43355) concerning improvements to our implementation of the National Environmental Policy Act. Based on the public and internal scoping comments the NPS developed a draft revision of the Director's Order and Handbook. The NPS then made a draft of the Director's Order and Handbook available for public review and comment (62 FR 45270 and 62 FR 51144). Comments received during the public comment period were general and primarily editorial in nature and have been incorporated in the approved version. The approved Director's Order revises NPS policies, standards, and requirements for implementing the National Environmental Policy Act (NEPA) within units of the National Park System. Based on this revision, a modification will be made to the Department of the Interior's Departmental Manual (section 516 appendix 7) regarding implementation of NEPA by the NPS.

DATES: Director's Order 12: Conservation Planning, Environmental Impact Analysis and Decision-making and the Handbook accompanying the Director's Order were signed on January 8, 2001.

ADDRESSES: Director's Order 12 and its Handbook are available on the Internet at the following address: http://www.nps.gov/refdesk/Dorders/index.htm. Requests for copies should be sent to: Jacob Hoogland, National Park Service, Environmental Quality Division, 1849 C Street, N.W. Room 2749, Washington, D.C 20240.

FOR FURTHER INFORMATION CONTACT: Jacob Hoogland at (202) 208-3163 or jacob_hoogland@nps.gov.

Dated: January 16, 2001.
Michael Soukup,
Associate Director, Natural Resource Stewardship and Science.

[FR Doc. 01-1876 Filed 1-22-01; 8:45 am]

BILLING CODE 4310-70-P